DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before February 25, 2008.

ADDRESSES: You may submit your comments, identified by “docket number” on the subject line, by any of the following methods:

1. Electronic mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2007-069-C.

Petitioner: Cumberland River Coal Company, Pardee Complex, P.O. Drawer 109, Appalachia, Virginia 24216.

Mine: Dogwood #2 Mine, MSHA I.D. No. 44-07018, located in Wise County, Virginia.

Regulation Affected: 30 CFR 77.214(a) (Refuse piles; general).

Modification Request: The petitioner proposes to place refuse rock from preparation plant operations over the abandoned portals of the Old Dominion Energy, Inc., Dogwood #2 Mine and is requesting modification of the existing standard to allow extension of refuse site 1211-VA5-0286-82 to that area. The petitioner states that: (1) Modification of the existing standard would not jeopardize the safety of the miners at the mine or the disposal area; (2) no miners have been working in the mine since it has been abandoned; (3) there are four mine openings in the area planned for placement of refuse rock; (4) the openings are in the Low Split D seam at an elevation of 2,460 feet; and (5) the site is lower in elevation than the mine openings. The petitioner has listed in this petition specific steps that will be followed when sealing the abandoned mine openings in preparation for placement of refuse rock. Persons may review a complete description of the proposed steps and procedures at the MSHA address listed in the notice. The petitioner asserts that the proposed preparation for refuse rock placement will maintain the same level of safety as the existing standard.

Docket Number: M-2007-070-C.

Petitioner: White County Coal, LLC, P.O. Box 457, Carmi, Illinois 62821.

Mine: Pettiki Mine, MSHA I.D. No. 11-03058, located in White County, Illinois.

Regulation Affected: 30 CFR 75.503 (Permissible electric face equipment; maintenance) and 30 CFR 18.35 (Portable (trailing) cables and cords).

Modification Request: The petitioner requests a modification of the existing standard to increase the maximum length of cables supplying power to permissible equipment used in continuous mining sections. The petitioner states that: (1) This petition will only apply to trailing cables supplying three-phase, 995-volt power to continuous mining machines and trailing cables supplying three-phase, 480-volt power to roof bolters; (2) the maximum length of the 995-volt continuous mining machine trailing cables will be 950 feet and the maximum length of the 480-volt trailing cables for roof bolters will be 900 feet; (3) 995-volt continuous mining machine trailing cables will not be smaller than 2/0 and the 480-volt trailing cables for roof bolters will not be smaller than #2 American Wire Gauge (AWG); (4) all circuit breakers used to protect 2/0 trailing cables exceeding 850 feet in length will have instantaneous trip units calibrated to trip at 1,500 amperes and the trip setting will be sealed or locked and will have permanent legible permanent labels that will be maintained as legible to identify the circuit breaker as being suitable for protecting 2/0 cables; (5) replacement instantaneous trip units, used to protect 2/0 trailing cables, will be calibrated to trip at 1,500 amperes and the setting will be sealed or locked; (6) all circuit breakers used to protect #2 AWG trailing cables exceeding 700 feet in length will have instantaneous trip units calibrated to trip at 800 amperes, the trip setting will be sealed or locked, and the circuit breakers will have permanent legible labels that will be maintained as legible to identify the circuit breakers as being suitable for protecting #2 AWG cables; (7) replacement instantaneous trip units used to protect #2 AWG trailing cables will be calibrated to trip at 800 amperes and the setting will be sealed or locked; (8) the designated operator will visually examine the trailing cables during each production day to ensure that the cables are operating safely and the instantaneous settings of the calibrated breakers do not have seals or locks removed and do not exceed the stipulated settings; (9) any trailing cable that is not in safe operating condition will be removed from service immediately and repaired or replaced; and (10) splices or repairs shall be workmanlike, in accordance with manufacturer's instructions and 30 CFR 75.603 and 75.604. Persons may review a complete description of petitioner's alternative method and procedures at the MSHA address listed in the notice. The petitioner states that the alternative method will not be implemented until miners designated to examine the integrity of the seals or locks verify the short-circuit settings, and proper procedures training have been provided for examining trailing cables for defects and damage. The petitioner further states that the miners will be trained in the terms and conditions of the Proposed Decision and Order, and within 60 days the petitioner will submit revisions of its Part 48 training plan to the District Manager that includes task training to comply with the final order. The petitioner asserts that the proposed alternative method will at all times guarantee no less than the same measure of protection to the miners.

Docket Number: M-2007-071-C.

Petitioner: Independence Coal Company.

Mine: Allegiance Mine, MSHA I.D. No. 46-08735, located in Boone County, West Virginia.

Regulation Affected: 30 CFR 75.1002 (Installation of electric equipment and conductors; permissibility).

Modification Request: The petitioner requests a modification of the existing standard to permit the use of a 2400-volt power center to power a continuous miner with high-voltage trailing cable inby the last open crosscut and within 150 feet of pillar workings. The petitioner has listed in this petition specific steps that will be followed. Persons may review a complete description of the proposed steps and procedures at the MSHA address listed in this notice. The petitioner asserts that the proposed alternative method will at all times guarantee no less than the same measure of protection afforded the miners at the mine by the existing standard.

Docket Number: M-2007-072-C.

Petitioner: Harlan-Cumberland Coal Company, LLC, P.O. Box 269, Grays Knob, Kentucky 40829.

Mine: Totz Preparation Plant, MSHA I.D. No. 15-10657, and Coarse Coal Refuse Fill #1, located in Harlan County, Kentucky.

Regulation Affected: 30 CFR 77.214 (Refuse piles; general).

Modification Request: The petitioner requests a modification of the existing standard to permit coarse refuse fill to be constructed over abandoned underground mine openings because the mines are abandoned and all reserves in these mines have been depleted. The petitioner states that: (1) There are no safety issues that might affect any underground miners; (2) surface workers at the coal preparation plant will be protected by clearly identifying the openings and insuring that the openings are sealed and/or provided drainage. The petitioner further states that: (1) The openings at issue have been abandoned since as early as the mid-1900's and as late as the late 1990's and represent no threat to underground miners because all of the affected mine workings/openings are abandoned; (2) there are no active underground mine workings above or below the abandoned coal seams in this area; and (3) there are no active workings within 2,000 feet of the coarse refuse fill. The petitioner asserts that the proposed alternative method will achieve and guarantee the same measure of protection afforded by the standard.

Dated: January 17, 2008.
Jack Powasnik,
Deputy Director, Office of Standards, Regulations, and Variances.

[FR Doc. E8-1309 Filed 1-24-08; 8:45 am]

BILLING CODE 4510-43-P